DEPARTMENT OF COMMERCE

National Oceanic and Atmospheric Administration

RIN 0648-XC058

Endangered Species; File No. 16803

AGENCY: National Marine Fisheries Service (NMFS), National Oceanic and Atmospheric Administration (NOAA), Commerce.

ACTION: Issuance of permit.

SUMMARY: Notice is hereby given that NMFS Southwest Fisheries Science Center (SWFSC), 8901 La Jolla Shores Drive, La Jolla, CA 92037, [Responsible Party: Lisa Ballance, Ph.D.] has been issued a permit to take green (Chelonia mydas), loggerhead (Caretta caretta), and olive ridley (Lepidochelys olivacea) sea turtles for purposes of scientific research.

ADDRESSES: The permit and related documents are available for review upon written request or by appointment in the following offices:

Permits and Conservation Division, Office of Protected Resources, NMFS, 1315 East-West Highway, Room 13705, Silver Spring, MD 20910; phone (301) 427-8401; fax (301) 713-0376; and

Southwest Region, NMFS, 501 West Ocean Blvd., Suite 4200, Long Beach, CA 90802-4213; phone (562) 980-4001; fax (562) 980-4018.

FOR FURTHER INFORMATION CONTACT: Amy Hapeman or Colette Cairns, (301) 427-8401.

SUPPLEMENTARY INFORMATION: On June 11, 2012, notice was published in the Federal Register (77 FR 34349) that a request for a scientific research permit to take loggerhead, green, and olive ridley sea turtles had been submitted by the above-named organization. The requested permit has been issued under the authority of the Endangered Species Act of 1973, as amended (ESA; 16 U.S.C. 1531 et seq.) and the regulations governing the taking, importing, and exporting of endangered and threatened species (50 CFR parts 222-226).

The SWFSC has been issued a 5-year permit to take sea turtles in San Diego Bay, California. The purpose of the work is to determine their abundance, size ranges, growth, sex ratio, health status, diving behavior, local movements, habitat use, and migration routes. Up to 50 green, five olive ridley, and five loggerhead sea turtles may be captured annually by entanglement or seine netting and have the following procedures performed before release: Photography/video; carapace marking; flipper tagging and passive integrated transponder tagging; ultrasound; morphometrics; tetracycline injection; fecal, scute, blood and tissue sampling; cloacal and oral swabbing; lavage; and attachment of up to two transmitters. Animals with transmitters may be tracked by vessel after release.

Issuance of this permit, as required by the ESA, was based on a finding that such permit (1) Was applied for in good faith, (2) will not operate to the disadvantage of such endangered or threatened species, and (3) is consistent with the purposes and policies set forth in section 2 of the ESA.

Dated: October 5, 2012.
P. Michael Payne,
Chief, Permits and Conservation Division, Office of Protected Resources, National Marine Fisheries Service.

[FR Doc. 2012-25011 Filed 10-10-12; 8:45 am]

BILLING CODE 3510-22-P